DEPARTMENT OF HEALTH AND HUMAN SERVICES

Centers for Medicare & Medicaid Services

Performance Review Board Membership

AGENCY: Centers for Medicare & Medicaid Services, Department of Health and Human Services.

ACTION: Notice.

SUMMARY: Each agency is required to establish, in accordance with regulations prescribed by the Office of Personnel Management, one or more Senior Executive Service (SES) Performance Review Boards (PRBs). The PRB shall review and evaluate the initial summary rating of a senior executive's performance, the executive's response, and any higher-level review's comments on the initial summary rating. In addition, the PRB will review and recommend executive performance bonuses and pay increases.

FOR FURTHER INFORMATION CONTACT: Kathy Vaughn, 410-786-1050 or katherine.vaughn@cms.hhs.gov.

SUPPLEMENTARY INFORMATION: 5 U.S.C. 4314(c)(4) requires the appointment of board members to be published in the Federal Register. The following persons comprise a standing roster to serve as members of the SES PRB for the Centers for Medicare & Medicaid Services:

Jonathan Blum, Principal Deputy Administrator and Chief Operating Officer (serves as the Chair)

Tia Butler, Director, Office of Human Capital (serves as the Co-chair)

Elizabeth Fowler, Deputy Administrator and Director, Center of Medicare

Arielle Woronoff, Director, Office of Legislation

Karen Jackson, Deputy Chief Operating Officer

Elizabeth Richter, Deputy Center Director, Center for Medicare

Arrah Tabe-Bedward, Deputy Director, Center for Medicare and Medicaid Innovation

Jeffrey Wu, Deputy Director for Operations, Center for Consumer Information and Insurance Oversight

The Principal Deputy Administrator and Chief Operating Officer of the Centers for Medicare & Medicaid Services (CMS), Jonathan Blum, having reviewed and approved this document, authorizes Evell Barco Holland, who is the Federal Register Liaison, to electronically sign this document for purposes of publication in the Federal Register.

Evell Barco Holland,
Federal Register Liaison, Centers for Medicare & Medicaid Services.

[FR Doc. 2022-19716 Filed 9-12-22; 8:45 am]

BILLING CODE 4120-01-P